NUCLEAR REGULATORY COMMISSION

[NRC-2017-0052]

Enforcement Discretion for Tornado-Generated Missile Protection Noncompliance, Revision 1

AGENCY: Nuclear Regulatory Commission.

ACTION: Interim staff guidance; issuance.

SUMMARY: The U.S. Nuclear Regulatory Commission (NRC) is issuing Interim Staff Guidance (ISG), “Clarification of Licensee Actions in Receipt of Enforcement Discretion per Enforcement Guidance Memorandum (EGM) 15-002, `Enforcement Discretion for Tornado-Generated Missile Protection Noncompliance,' Revision 1.” The revisions provide clarifying guidance to facilitate the NRC staff's consistent oversight associated with implementing enforcement discretion for tornado missile protection noncompliance(s) per EGM 15-002.

DATES: The applicable date of the ISG is November 22, 2017.

ADDRESSES: Please refer to Docket ID NRC-2017-0052 when contacting the NRC about the availability of information regarding this document. You may obtain publicly-available information related to this document using any of the following methods:

• Federal Rulemaking Web site: Go to http://www.regulations.gov and search for Docket ID NRC-2017-0052. Address questions about NRC dockets to Carol Gallagher, telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ISG, “Clarification of Licensee Actions in Receipt of Enforcement Discretion Memorandum 15-002, “Enforcement Discretion for Tornado-Generated Missile Protection Noncompliance,” Revision 1, is available in ADAMS under Accession No. ML17128A344. Enforcement Guidance Memorandum, EGM 15-002, “Enforcement Discretion for Tornado-Generated Missile Protection Noncompliance,” Revision 1 is available in ADAMS under Accession No. ML16355A286.

• NRC's PDR: You may examine and purchase copies of public documents at the NRC's PDR, Room O1-F21, One White Flint North, 11555 Rockville Pike, Rockville, Maryland 20852.

FOR FURTHER INFORMATION CONTACT: James Hickey, Office of Nuclear Reactor Regulation, U.S. Nuclear Regulatory Commission, Washington DC 20555-0001; telephone: 301-415-2180, email: James.Hickey@nrc.gov.

SUPPLEMENTARY INFORMATION: The NRC published a Federal Register notice requesting public comment on this interim staff guidance (ISG) on February 23, 2017 (82 FR 11483). The agency received five total comments. The NRC considered the comments, which resulted in no changes to the ISG. The evaluation of these comments is discussed in the last appendix of the ISG.

I. Background

The Office of Nuclear Reactor Regulation (NRR), Division of Risk Analysis (DRA) completed a generic bounding risk analysis (ADAMS Accession No. ML14114A556) that concluded that the issues associated with the inoperability of a Structure, System, or Component due to a tornado-generated missile are likely to be of low risk significance, and do not require immediate plant shutdown. Based on the conclusions of the NRR/DRA analysis, the staff issued EGM 15-002, dated June 10, 2015. In its implementation of EGM 15-002, the NRC staff found that additional refinements are needed to address reportability, enforcement of long standing design issues, and the duration of the enforcement discretion resulting from all the non-conforming conditions being assessed together. As a result, the staff issued EGM 15-002, Revision 1, dated February 7, 2017.

This revised ISG adds additional information for inspection and review staff to support implementation of the changes made in EGM 15-002, Revision 1. This revised ISG provides an approach to extending the discretion. The revisions to this ISG also revise provisions concerning reportability requirements under § 50.72 of title 10 of the Code of Federal Regulations (10 CFR), discusses enforcement discretion for long-term design non conformances, and reinforces the need for licensees to follow the corrective action program when dispositioning the impact of identified tornado missile non-conformances on operability. This revised ISG will expire with the expiration of EGM 15-002, Revision 1.

II. Backfit Discussion

Issuance of this ISG in final form does not constitute backfitting as defined in 10 CFR 50.109 (the Backfit Rule). As discussed in the “Backfitting” section of DSS-ISG- 2016-001, Revision 1, this ISG contains guidance for the NRC staff for implementing EGM-15-002. This ISG does not constitute backfitting as defined in the Backfit Rule and is not otherwise inconsistent with the issue finality provisions in 10 CFR part 52, and the NRC staff did not prepare a backfit analysis. This because this ISG requires no response by licensees, and concerns only NRC staff implementation of enforcement discretion pursuant to EGM-15-002.

III. Congressional Review Act

This ISG is a rule as defined in the Congressional Review Act (5 U.S.C. 801-808). However, the Office of Management and Budget has not found it to be a major rule as defined in the Congressional Review Act.

Dated at Rockville, Maryland, this 16th day of November, 2017.
For the Nuclear Regulatory Commission.
Alexander H. Schwab,
Project Manager, ROP Support and Generic Communications Branch, Division of Inspection and Regional Support, Office of Nuclear Reactor Regulation.

[FR Doc. 2017-25271 Filed 11-21-17; 8:45 am]

BILLING CODE 7590-01-P